DEPARTMENT OF ENERGY

Federal Energy Regulatory Commission

Combined Notice of Filings

Take notice that the Commission has received the following Natural Gas Pipeline Rate and Refund Report filings:

Docket Numbers: RP21-820-000.

Applicants: El Paso Natural Gas Company, L.L.C.

Description: Request for Limited Waiver of El Paso Natural Gas Company.

Filed Date: 5/11/21.

Accession Number: 20210511-5132.

Comments Due: 5 p.m. ET 5/28/21.

Docket Numbers: RP21-734-001.

Applicants: Sea Robin Pipeline Company, LLC.

Description: Tariff Amendment: Amendment to Revised Fuel Percentage to be effective 7/1/2021.

Filed Date: 5/24/21.

Accession Number: 20210524-5113.

Comments Due: 5 p.m. ET 6/7/21.

Docket Numbers: RP21-835-000.

Applicants: Algonquin Gas Transmission, LLC.

Description: § 4(d) Rate Filing: Negotiated Rate—Northern Utilities 510939 to Emera eff 5-22-21 to be effective 5/22/2021.

Filed Date: 5/24/21.

Accession Number: 20210524-5000.

Comments Due: 5 p.m. ET 6/7/21.

Docket Numbers: RP21-836-000.

Applicants: Northern Natural Gas Company.

Description: Compliance filing 20210524 DDVC Tariff Waiver.

Filed Date: 5/24/21.

Accession Number: 20210524-5111.

Comments Due: 5 p.m. ET 6/7/21.

Docket Numbers: RP21-837-000.

Applicants: Tennessee Gas Pipeline Company, L.L.C.

Description: § 4(d) Rate Filing: PAL NRA Engie SP367255 & J.P. Morgan SP367264 to be effective 6/1/2021.

Filed Date: 5/24/21.

Accession Number: 20210524-5148.

Comments Due: 5 p.m. ET 6/7/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 25, 2021.
Debbie-Anne A. Reese,
Deputy Secretary.

[FR Doc. 2021-11468 Filed 5-28-21; 8:45 am]

BILLING CODE 6717-01-P